ENVIRONMENTAL PROTECTION AGENCY

[ER-FRL-6668-09]

Environmental Impacts Statements; Notice of Availability

Responsible Agency: Office of Federal Activities, General Information (202) 564-7167 or http://www.epa.gov/compliance/nepa/.

Weekly receipt of Environmental Impact Statements

Filed October 24, 2005 Through October 28, 2005

Pursuant to 40 CFR 1506.9.

EIS No. 20050450, Draft EIS, SFW, IL, Crab Orchard National Wildlife Refuge Comprehensive Conservation Plan (CCP), Implementation, Williamson, Jackson and Unicon Counties, IL, Comment Period Ends: January 17, 2006, Contact: Dan Frisk 618-997-3344.

EIS No. 20050451, Final EIS, AFS, WA, Fish Passage and Aquatic Habitat Restoration at Hemlock Dam, Implementation, Gifford Pinchot National Forest, Mount Adams District, Skamaria County, WA, Wait Period Ends: December 5, 2005, Contact: Benet Coffin 509-395-3425.

EIS No. 20050452, Draft EIS, BLM, NM, Kasha-Katuwe Tent Rocks National Monument Resource Management Plan, Implementation, Rio Puerco Field Office, Sandoval County, NM, Comment Period Ends: February 2, 2006, Contact: John Bristol 505-761-8755.

EIS No. 20050453, Draft EIS, AFS, ID, South Fork Salmon River Subbasin Noxious and Invasive Weed Management Program, Implementation, Krassel and McCall Ranger Districts, Payette National Forest and Cascade Ranger District, Valley and Idaho Counties, ID, Comment Period Ends: December 20, 2005, Contact: Ana Egnew 208-634-0624.

EIS No. 20050454, Final EIS, FRC, 00, Cove Point Expansion Project, Construction and Operation of a Liquefied Natural Gas (LNG) Import Terminal Expansion and Natural Gas Pipeline Facilities, US. Army COE Section 404 Permit, Docket Nos. CPO5-130-000, CP05-131-000 and CP05-132-00, PA, VA, WV, NY and MD, Wait Period Ends: December 21, 2005, Contact: Thomas Russo 1-866-208-3372.

EIS No. 20050455, Final EIS, AFS, IN, German Ridge Restoration Project, To Restore Native Hardwood Communities, Implementation, Hoosier National Forest, Tell City Ranger District, Perry County, IN, Wait Period Ends: December 5, 2005, Contact: Ron Ellis 812-275-5987.

EIS No. 20050456, Final EIS, FHW, 00, US 24 Transportation Improvements Project, I-469 in New Haven, Indiana to Ohio Route15 in Defiance, Funding, NPDES Permit and U.S. Army COE Section 404 Permit Issuance, Westenmost and Allen Counties, IN and Paulding and Defiance Counties, OH, Wait Period Ends: December 5, 2005, Contact: Mark Vonder Embse 614-280-6854.

Amended Notices

EIS No. 20050437, Final EIS, AFS, NM, Tajique Watershed Restoration Project, Proposes Fuel Reduction and Restore Forest Health, Cibola National Forest, Torrance County, NM, Wait Period Ends: November 21, 2005, Contact: Vicky Estrada 505-847-2990.

Revision of FR Notice Published October 21, 2005: Correction to Title and Contact Person Name.

EIS No. 20050446, Draft EIS, USN, 00, Undersea Warfare Training Range (USWTR), Installation and Operation, Preferred Site (in the Cherry Point Operating Area) and the Alternate Sites (within the Virginia Capes and Jacksonville Operating Areas), NC, VA and FL, Comment Period Ends: December 28, 2005, Contact: Keith Jenkins 757-322-4046.

Revision of FR Notice Published on October 28, 2005: Comment Period Extended from December 12, 2005 to December 28, 2005.

Dated: November 1, 2005.
Ken Mittelholtz,
Environmental Protection Specialist, NEPA Compliance Division, Office of Federal Activities.

[FR Doc. 05-22040 Filed 11-3-05; 8:45 am]

BILLING CODE 6560-50-P